DEPARTMENT OF AGRICULTURE

Grain Inspection, Packers and Stockyards Administration

Designation for the Topeka, KS; Cedar Rapids, IA; Minot, ND; and Cincinnati, OH Areas

AGENCY: Grain Inspection, Packers and Stockyards Administration (GIPSA), USDA.

ACTION: Notice.

SUMMARY: GIPSA is announcing the designation of Kansas Grain Inspection Service, Inc. (Kansas); Mid-Iowa Grain Inspection, Inc. (Mid-Iowa); Minot Grain Inspection, Inc. (Minot); and Tri-State Grain Inspection Service, Inc. (Tri-State) to provide official services under the United States Grain Standards Act (USGSA), as amended.

DATES: Effective Date: July 1, 2015.

ADDRESSES: Eric J. Jabs, Deputy Director, USDA, GIPSA, FGIS, QACD, 10383 North Ambassador Drive, Kansas City, MO 64153.

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the February 11, 2015, Federal Register (80 FR 7564), GIPSA requested applications for designation to provide official services in the geographic areas presently serviced by Kansas, Mid-Iowa, Minot, and Tri-State. Applications were due by March 13, 2015.

Kansas, Mid-Iowa, Minot, and Tri-State were the sole applicants for designation to provide official services in these areas. As a result, GIPSA did not ask for additional comments.

GIPSA evaluated the designation criteria in section 79(f) of the USGSA (7 U.S.C. 79(f)) and determined that Kansas, Minot, and Tri-State are qualified to provide official services in the geographic area specified in the Federal Register on February 11, 2015. This designation action to provide official services in these specified areas is effective July 1, 2015, to June 30, 2018.

After completing an initial quality management review of Mid-Iowa, GIPSA determined that a follow-up review should be conducted. Accordingly, GIPSA is designating Mid-Iowa to provide services in this specified area for one year, effective July 1, 2015, to June 30, 2016. During this timeframe, such a review will be conducted.

Interested persons may obtain official services by contacting these agencies at the following telephone numbers:

Official agency | Headquarters location and telephone | Designation start | Designation end
Kansas | Topeka, KS(785) 233-7063 | 7/1/2015 | 6/30/2018
Mid-Iowa | Cedar Rapids, IA(319) 363-0239 | 7/1/2015 | 6/30/2016
Minot | Minot, ND(701) 838-1734 | 7/1/2015 | 6/30/2018
Tri-State | Cincinnati, OH(513) 251-6571 | 7/1/2015 | 6/30/2018

Section 79(f) of the USGSA authorizes the Secretary to designate a qualified applicant to provide official services in a specified area after determining that the applicant is better able than any other applicant to provide such official services (7 U.S.C. 79 (f)).

Under section 79(g) of the USGSA, designations of official agencies are effective for no longer than three years unless terminated by the Secretary; however, designations may be renewed according to the criteria and procedures prescribed in section 79(f) of the USGSA.

Authority: 7 U.S.C. 71-87k.

Larry Mitchell,
Administrator, Grain Inspection, Packers and Stockyards Administration.

[FR Doc. 2015-16124 Filed 6-30-15; 8:45 am]

BILLING CODE 3410-EN-P